DEPARTMENT OF DEFENSE

Department of the Army; Corps of Engineers

Draft Supplemental Environmental Impact Statement, US Route 460, Prince George County to City of Suffolk, VA

AGENCY: Department of the Army, U.S. Army Corps of Engineers, DoD.

ACTION: Notice of availability.

SUMMARY: The United States Department of the Army Corps of Engineers (USACE) is issuing this notice to advise the public that a Draft Supplemental Environmental Impact Statement (SEIS) has been prepared jointly with the Federal Highway Administration (FHWA) and in cooperation with the Virginia Department of Transportation (VDOT) for the Route 460 Location Study. The study area extends from I-295 in Prince George County on the western end to Route 58 in the City of Suffolk on the eastern end. (USACE Project Number NAO-2008-03470; FHWA Project Number STP-0005(276); VDOT Project Number 0460-969-101,P101; UPC 100432).

DATES: Written comments on the Draft SEIS will be received until the close of the 45-day public review on November 17, 2014, and can be sent to USACE and/or FHWA (see ADDRESSES).

ADDRESSES: William T. Walker, Chief Regulatory Branch, Corps of Engineers, 803 Front Street, Norfolk, VA 23510; Ed Sundra, Director of Program Development, Federal Highway Administration, 400 North 8th St., Suite 750, Richmond, VA 23219.

FOR FURTHER INFORMATION CONTACT: Questions about the SEIS can be directed to Alice Allen-Grimes, U.S. Army Corps of Engineers, Regulatory Branch, 803 Front Street, Norfolk, VA 23510; email: Alice.W.Allen-Grimes@usace.army.mil; (757) 201-7219 and/or Ed Sundra, Federal Highway Administration, 400 North 8th Street, Suite 750, Richmond, VA 23219; email: Ed.Sundra@dot.gov; (804) 775-3357.

SUPPLEMENTARY INFORMATION: This SEIS has been prepared pursuant to 23 CFR 771.130 and 40 CFR 1502.9(c), because of new information and circumstances relevant to environmental concerns of the federal action that may result in significant environmental impacts not evaluated in the FHWA approved Final Environmental Impact Statement (FEIS).

1. Project Description and Background: An FEIS for the Route 460 Location Study was approved by FHWA in June 2008 and a ROD was issued in September 2008. In November 2012, based upon the information before them at the time, FHWA completed a National Environmental Policy Act (NEPA) Re-evaluation of the FEIS, concluding that an SEIS was not needed. Based on new information bearing on the environmental impacts, including the aquatic impacts, it was later decided that an SEIS is required. The Notice of Intent to Prepare this SEIS, published in December 2013, indicated that USACE had received an application for the construction of a Route 460 project; that application was withdrawn in March 2014.

US Route 460 (Route 460) is a primary east-west arterial highway that traverses the Commonwealth of Virginia. From Interstate 295 (I-295) in Prince George County to US Route 58 (Route 58) in the City of Suffolk, Route 460 is a four lane, undivided arterial roadway with posted speeds of 35 to 55 miles per hour (mph). This eastern segment of the road was built in the mid-1930s as a two-lane roadway. In the mid-1950s, two lanes were added, widening Route 460 to four undivided travel lanes. In the study area Route 460 is approximately 55 miles in length and passes through portions of the Counties of Prince George, Surry, Sussex, Southampton and Isle of Wight; the City of Suffolk; the incorporated towns of Waverly, Wakefield, Ivor, and Windsor; and the unincorporated communities of Disputanta and Zuni.

2. Alternatives: The purpose of the improvements to the Route 460 corridor is to construct a facility that is consistent with the functional classification of the corridor, sufficiently addresses safety, mobility and evacuation needs, and sufficiently accommodates freight traffic along the Route 460 corridor between Petersburg and Suffolk, Virginia. The SEIS provides detailed analysis of five alternatives (Alternatives 1-5) that meet the Purpose and Need for the project as well as applicable design standards, plus the No Build Alternative. The Build Alternatives have been developed using varying typical sections based on design standards and site specific conditions to determine the design corridor width that will likely be needed to accommodate construction and estimate the extent of impacts associated with each alternative.

Some of the Alternatives considered in the SEIS are different than the alternatives in the original EIS. Transportation Systems Management and Improvements to the Existing Alignment with a two-way left turn lane were evaluated in the EIS, but were eliminated in the SEIS, along with Mass Transit, which was considered for both the EIS and the SEIS but not retained in either. Alternatives retained from the EIS include the No Build; Alternative 1 (a limited-access tolled facility on new location south of the existing Route 460; the Preferred Alternative in the 2008 FEIS); Alternative 2 (improvements to the existing Route 460 with six limited access bypasses around the built-up areas; the four lane typical section between the towns is not the same as in the original EIS); and Alternative 3 (a limited-access tolled facility on new location north of the existing Route 460). In addition, two alternatives not previously evaluated were developed as part of the SEIS and carried forward: Alternative 4 (improvements of existing Route 460 to meet current design standards, through the towns with no bypasses); and Alternative 5 (8-lanes—4 limited-access tolled lanes with 2 bi-directional service lanes on each side between the towns—on the same general location as Alternative 2 along the existing roadway with bypasses).

3. Issues: There are several potential environmental and social issues that are addressed in the SEIS. Additional issues may be identified as part of the public comment process. Issues identified as potentially significant and varying depending on the Build Alternative considered include:

a. Potential impacts to wetlands ranging from 90 to 613 acres.

b. Potential impacts to streams ranging from 4 to 13 linear miles.

c. Potential displacements to residences of 78 to 167.

d. Potential displacements to businesses of 12 to 54.

e. Potential impacts to historic architectural resources.

f. Potential impacts to wildlife habitat, including riparian corridors.

g. Disruption of communities.

h. Potential impacts to designated conservation areas.

i. Cost and tolling.

4. Scoping and Public Review Process: Throughout the development of the project, a variety of scoping and public involvement opportunities were provided to alert the public about the project, provide information and updates, and solicit feedback. These opportunities included but were not limited to a series of public hearings in the corridor when the DEIS was issued in 2005 and a series of public meetings in 2007 to evaluate conceptual proposals received from the private sector in response to the solicitation of private-public proposals. Most recently, VDOT hosted public meetings in 2012 and 2014 to update the public on the project. Public meetings will be conducted on October 27, 29 and 30 by VDOT, with FHWA and USACE in attendance. VDOT has provided information for the public meetings, including time and location, through a variety of means, including their Web site (http://www.route460project.org/) and by newspaper advertisement.

5. Additional Review and Consultation: The SEIS complies with other Federal and State requirements including, but not limited to, the State water quality certification under Section 401 of the CWA; protection of water quality under the Virginia/National Pollutant Discharge Elimination System; consideration of minority and low income populations under Executive Order 12898; protection of endangered and threatened species under Section 7 of the Endangered Species Act; and protection of cultural resources under Section 106 of the National Historic Preservation Act.

6. Availability of the Draft SEIS: This Draft SEIS has been filed with the Environmental Protection Agency, published and circulated. A copy of the full document including all Technical Reports can be found at http://www.route460project.org/SEIS. In addition, hard copies of the SEIS can be found in area libraries and other public facilities, the locations of which can be found on the VDOT project Web site (address above).

William T. Walker,
Chief, Regulatory Branch U.S. Army Corps of Engineers, Norfolk District.

[FR Doc. 2014-23356 Filed 10-2-14; 8:45 am]

BILLING CODE 3720-58-P